DEPARTMENT OF TRANSPORTATION

Federal Aviation Administration

14 CFR Part 71

[Docket No. FAA-2003-14457; Airspace Docket No. 03-ACE-10]

Modification of Class E Airspace; Herington, KS

AGENCY: Federal Aviation Administration (FAA), DOT.

ACTION: Direct final rule; request for comments; correction.

SUMMARY: This action corrects a direct final rule; request for comments that was published in the Federal Register on Tuesday, February 25, 2003, (68 FR 8704). It corrects an error in the location of the Herington Regional Airport, KS in the legal description of the Herington, KS Class E airspace.

DATES: This direct final rule is effective on 0901 UTC, May 15, 2003.

Comments for inclusion in the Rules Docket must be received on or before March 25, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register document 03-4322 published on Tuesday, February 25, 2003, (68 FR 8704) modified Class E airspace at Herington, KS. The modification was to correct the Herington Regional Airport, KS airport reference point used in the legal description of the Herington, KS Class E airspace area. The latitude of the Herington Regional Airport, KS airport reference point was published incorrectly.

Accordingly, pursuant to the authority delegated to me, the Herington, KS Class E airspace, as published in the Federal Register on Tuesday, February 25, 2003, (68 FR 8704), (FR Doc. 03-4322), is corrected as follows:

§ 71.1 [Corrected]

On page 8705, Column 1, second paragraph from the bottom, change “Herington Regional Airport, KS (lat. 39°41′41″N., long. 96°48′29″W.)” to read “Herington Regional Airport, KS (lat. 38°41′41″N., long 96°48′29″W.)”

Issued in Kansas City, MO, on March 7, 2003.
Herman J. Lyons, Jr.,
Manager, Air Traffic Division, Central Region.

[FR Doc. 03-6623 Filed 3-18-03; 8:45 am]

BILLING CODE 4910-13-M